DEPARTMENT OF COMMERCE

International Trade Administration

[A-856-001]

Common Alloy Aluminum Sheet From Slovenia: Preliminary Results of Antidumping Duty Administrative Review; 2020-2022

AGENCY: Enforcement and Compliance, International Trade Administration, Department of Commerce.

SUMMARY: The U.S. Department of Commerce (Commerce) preliminarily finds that Impol d.o.o. and Impol FT, d.o.o. (collectively, Impol), made sales of subject merchandise at less than normal value during the period of review (POR) October 15, 2020, through March 31, 2022. Interested parties are invited to comment on these preliminary results.

DATES: Applicable March 2, 2023.

FOR FURTHER INFORMATION CONTACT: Dennis McClure, AD/CVD Operations, Office VIII, Enforcement and Compliance, International Trade Administration, U.S. Department of Commerce, 1401 Constitution Avenue NW, Washington, DC 20230; telephone: (202) 482-5973.

SUPPLEMENTARY INFORMATION:

Background

On April 27, 2021, Commerce published the antidumping duty order on common alloy aluminum sheet from Slovenia.¹ In accordance with section 751(a)(2) of the Tariff Act of 1930, as amended (the Act), Commerce is conducting an administrative review of the Order. On June 9, 2022, in accordance with 19 CFR 251.221(c)(1)(i), we initiated the administrative review of the Order covering Impol, the only company requested for review.² For a complete description of the events between the initiation of this review and these preliminary results, see the Preliminary Decision Memorandum.³

¹ See Common Alloy Aluminum Sheet from Bahrain, Brazil, Croatia, Egypt, Germany, India, Indonesia, Italy, Oman, Romania, Serbia, Slovenia, South Africa, Spain, Taiwan and the Republic of Turkey: Antidumping Duty Orders, 86 FR 22139 (April 27, 2021) (Order).

² See Initiation of Antidumping and Countervailing Duty Administrative Reviews, 87 FR 35165 (June 9, 2022).

³ See Memorandum, “Common Alloy Aluminum Sheet from Slovenia: Decision Memorandum for the Preliminary Results of Antidumping Duty Administrative Review; 2020-2022,” dated concurrently with, and hereby adopted by, this notice (Preliminary Decision Memorandum).

Scope of the Order

The merchandise subject to the Order is common alloy aluminum sheet from Slovenia. For a complete description of the scope of the Order, see the Preliminary Decision Memorandum.⁴

⁴ Id. at “Scope of the Order.”

Methodology

Commerce conducted this review in accordance with section 751(a) of the Act. We calculated export prices in accordance with section 772(a) of the Act. We calculated normal value in accordance with section 773 of the Act.

For a full description of the methodology underlying these preliminary results, see the Preliminary Decision Memorandum. A list of topics discussed in the Preliminary Decision Memorandum is attached as an appendix to this notice. The Preliminary Decision Memorandum is a public document and is available to the public via Enforcement and Compliance's Antidumping and Countervailing Duty Centralized Electronic Service System (ACCESS). ACCESS is available to registered users at http://access.trade.gov. In addition, the signed Preliminary Decision Memorandum can be accessed directly at https://access.trade.gov/public/FRNoticesListLayout.aspx.

Preliminary Results of the Review

We preliminarily determine that the following weighted-average dumping margin exists for the period October 15, 2020, through March 31, 2022:

Producer and/or exporter | Weighted- average dumping margin (percent)
Impol d.o.o./Impol FT, d.o.o.⁵ | 5.42

Assessment Rates

⁵ The preliminary rate calculated for Impol applies to subject merchandise produced by Impol FT, d.o.o. and exported by either Impol FT, d.o.o. or Impol d.o.o.

Pursuant to section 751(a)(2)(A) of the Act and 19 CFR 351.212(b)(1), Commerce will determine, and U.S. Customs and Border Protection (CBP) shall assess, antidumping duties on all appropriate entries of subject merchandise in accordance with the final results of this review. Commerce intends to issue assessment instructions to CBP no earlier than 35 days after the date of publication of the final results of this administrative review in the Federal Register. If a timely summons is filed at the U.S. Court of International Trade, the assessment instructions will direct CBP not to liquidate relevant entries until the time for parties to file a request for a statutory injunction has expired (i.e., within 90 days of publication).

If Impol's weighted-average dumping margin is not de minimis (i.e., less than 0.50 percent), upon completion of the final results, Commerce intends to calculate importer-specific assessment rates on the basis of the ratio of the total amount of dumping calculated for each importer's examined sales to the total entered value of those sales. Where we do not have entered values for all U.S. sales to a particular importer, we will calculate an importer-specific, per-unit assessment rate on the basis of the ratio of the total amount of dumping calculated for the importer's examined sales to the total quantity of those sales.⁶ To determine whether an importer-specific, per-unit assessment rate is de minimis, in accordance with 19 CFR 351.106(c)(2), we also will calculate an importer-specific ad valorem ratio based on estimated entered values. Where either Impol's weighted-average dumping margin is zero or de minimis, or an importer-specific ad valorem assessment rate is zero or de minimis, we will instruct CBP to liquidate appropriate entries without regard to antidumping duties.⁷ For entries of subject merchandise during the POR produced by Impol for which it did not know that the merchandise it sold to the intermediary (e.g., reseller, trading company, or exporter) was destined for the United States, we will instruct CBP to liquidate such entries at the all-others rate ⁸ if there is no rate for the intermediate company(ies) involved in the transaction.⁹

⁶ See 19 CFR 351.212(b)(1).

⁷ See 19 CFR 352.106(c)(2); see also Antidumping Proceeding: Calculation of the Weighted-Average Dumping Margin and Assessment Rate in Certain Antidumping Proceedings; Final Modification, 77 FR 8101, 8103 (February 14, 2012).

⁸ See Order.

⁹ For a full discussion of this practice, see Antidumping and Countervailing Duty Proceedings: Assessment of Antidumping Duties, 68 FR 23954 (May 6, 2003).

The final results of this review shall be the basis for the assessment of antidumping duties on entries of merchandise covered by the final results of this review and for future deposits of estimated duties, where applicable.¹⁰

¹⁰ See section 751(a)(2)(C) of the Act.

Cash Deposit Requirements

The following cash deposit requirements will be effective for all shipments of subject merchandise entered, or withdrawn from warehouse, for consumption on or after the date of publication of the final results of this administrative review, as provided for by section 751(a)(2)(C) of the Act: (1) the cash deposit rate for Impol will be equal to the weighted-average dumping margin established in the final results of this review (except, if that rate is de minimis, then the cash deposit rate will be zero); (2) for producers or exporters not covered in this review but covered in a prior segment of the proceeding, the cash deposit rate will continue to be the company-specific rate published for the most recently-completed segment of this proceeding in which they were reviewed; (3) if the exporter is not a firm covered in this review or a prior segment of the proceeding but the producer is, then the cash deposit rate will be the rate established for the most recently-completed segment of this proceeding for the producer of the merchandise; and (4) the cash deposit rate for all other producers or exporters will continue to be 13.43 percent, the all-others rate established in the less-than-fair-value investigation.¹¹ These cash deposit requirements, when imposed, shall remain in effect until further notice.

¹¹ See Order, 86 FR at 22141.

Disclosure, Public Comment, and Opportunity To Request a Hearing

We intend to disclose the calculations performed for these preliminary results of review to interested parties within five days of the date of publication of this notice in accordance with 19 CFR 351.224(b). Interested parties may submit case briefs to Commerce no later than 30 days after the date of publication of this notice.¹² Rebuttal briefs, limited to issues raised in the case briefs, may be filed not later than seven days after the date for filing case briefs.¹³ Pursuant to 19 CFR 351.309(c)(2) and (d)(2), parties who submit case briefs or rebuttal briefs in this proceeding are encouraged to submit with each argument: (1) a statement of the issue; (2) a brief summary of the argument; and (3) a table of authorities.¹⁴ Case and rebuttal briefs should be filed using ACCESS ¹⁵ and must be served on interested parties.¹⁶ Commerce has temporarily modified certain of its requirements for serving documents containing business proprietary information, until further notice.¹⁷

¹² See 19 CFR 351.309(c)(1)(ii).

¹³ See 19 CFR 351.309(d)(1) and (2); see also Temporary Rule Modifying AD/CVD Service Requirements Due to COVID-19, 85 FR 17006, 17007 (March 26, 2020).

¹⁴ See 19 CFR 351.309(c)(2) and (d)(2).

¹⁵ See 19 CFR 351.303.

¹⁶ See 19 CFR 351.303(f).

¹⁷ See Temporary Rule Modifying AD/CVD Service Requirements Due to COVID-19; Extension of Effective Period, 85 FR 41363 (July 10, 2020).

Pursuant to 19 CFR 351.310(c), interested parties who wish to request a hearing must submit a written request to the Assistant Secretary for Enforcement and Compliance, filed electronically via ACCESS. An electronically-filed document must be received successfully in its entirety by ACCESS by 5 p.m. Eastern Standard Time within 30 days after the date of publication of this notice. Requests should contain: (1) the party's name, address, and telephone number; (2) the number of participants; (3) whether any participant is a foreign national; and (4) a list of issues the party intends to discuss. Issues raised in the hearing will be limited to those raised in the respective case and rebuttal briefs. If a request for a hearing is made, Commerce intends to hold the hearing at a date and time to be determined.¹⁸

¹⁸ See 19 CFR 351.310(c).

Final Results of Review

Unless otherwise extended, Commerce intends to issue the final results of this administrative review, including the results of its analysis of the issues raised in any written briefs, not later than 120 days after the date of publication of this notice, pursuant to section 751(a)(3)(A) of the Act and 19 CFR 351.213(h)(1).

Notification to Importers

This notice serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these preliminary results in accordance with sections 751(a)(1) and 777(i) of the Act, and 19 CFR 351.213(h) and 351.221(b)(4).

Dated: February 23, 2023.
Abdelali Elouaradia,
Deputy Assistant Secretary for Enforcement and Compliance.

Appendix

List of Topics Discussed in the Preliminary Decision Memorandum

I. Summary

II. Background

III. Scope of the Order

IV. Discussion of the Methodology

V. Currency Conversion

VI. Recommendation

[FR Doc. 2023-04304 Filed 3-1-23; 8:45 am]

BILLING CODE 3510-DS-P